DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with December anniversary dates. In accordance with Commerce's regulations, we are initiating those administrative reviews.

DATES: Applicable February 6, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with December anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews:

In accordance with 19 CFR 351.221(c)(1)(i), we are initiating administrative reviews of the following AD and CVD orders and findings. We intend to issue the final results of these reviews not later than December 31, 2020.

| Period to be reviewed
AD Proceedings
India: Carbazole Violet Pigment 23, A-533-838 | 12/1/18-11/30/19
Pidilite Industries Limited
Oman: Circular Welded Carbon-Quality Steel Pipe, A-523-812 | 12/1/18-11/30/19
Al Jazeera Steel Products Co. SAOG
Al Samna Metal Manufacturing & Trading Company LLC
Bollore Logistics (Oman) LLC
Transworld Shipping Trading & Logistics Services LLC
Republic of Korea: Certain Circular Welded Non-Alloy Steel Pipe,⁵ A-580-809 | 11/1/18-10/31/19
Aju Besteel
Bookook Steel
Chang Won Bending
Dae Ryung
Daewoo Shipbuilding & Marine Engineering (Dsme)
Daiduck Piping
Dong Yang Steel Pipe
Dongbu Steel
Eew Korea Company
Histeel
Husteel Co., Ltd.
Hyundai Rb
Hyundai Steel (Pipe Division)
Hyundai Steel Company
Kiduck Industries
Kum Kang Kind
Kumsoo Connecting
Miju Steel Mfg
NEXTEEL Co., Ltd.
Samkang M & T
Seah Fs
Seah Steel
Steel Flower
Vesta Co., Ltd.
Ycp Co.
Republic of Korea: Welded Line Pipe, A-580-876 | 12/1/18-11/30/19
AJU BESTEEL Co., Ltd.
Daewoo International Corporation
Dong Yang Steel Pipe
Dongbu Incheon Steel Co.
Dongbu Steel Co., Ltd.
Dongkuk Steel Mill
EEW Korea Co., Ltd.
HISTEEL Co., Ltd.
Husteel Co., Ltd.
Hyundai RB Co. Ltd.
Hyundai Steel Company/Hyundai HYSCO
Keonwoo Metals Co., Ltd.
Kolon Global Corp.
Korea Cast Iron Pipe Ind. Co., Ltd.
Kurvers Piping Italy S.R.L.
Miju Steel MFG Co., Ltd.
MSTEEL Co., Ltd.
NEXTEEL Co., Ltd.
Poongsan Valinox (Valtimet Division)
POSCO
POSCO Daewoo
R&R Trading Co. Ltd.
Sam Kang M&T Co., Ltd.
SeAH Steel Corp.
Sin Sung Metal Co., Ltd.
SK Networks
Soon-Hong Trading Company
Steel Flower Co., Ltd.
TGS Pipe
Tokyo Engineering Korea Ltd.
Socialist Republic of Vietnam: Uncovered Innerspring Units, A-552-803 | 12/1/18-11/30/19
Angkor Spring Co., Ltd.
The People's Republic of China: Cased Pencils, A-570-827 | 12/1/18-11/310/19
Ningbo Homey Union Co., Ltd.
Orient International Holding Shanghai Foreign Trade Co., Ltd.
Shandong Wah Yuen Stationery Co. Ltd.
Tianjin Tonghe Stationery Co. Ltd.
Wah Yuen Stationery Co. Ltd.
The People's Republic of China: Crystalline Silicon Photovoltaic Cells, Whether or Not Assembled Into Modules, A-570-979 | 12/1/18-11/30/19
Anji DaSol Solar Energy Science & Technology Co., Ltd.
BYD (Shangluo) Industrial Co., Ltd.
Canadian Solar International Limited, Canadian Solar Manufacturing (Changshu), Inc., Canadian Solar Manufacturing (Luoyang)Inc., CSI Cells Co., Ltd., CSI-GCL Solar Manufacturing (YanCheng) Co., Ltd., CSI Solar Power (China) Inc.
Changzhou Trina Solar Energy Co., Ltd., Trina Solar (Changzhou) Science and Technology Co., Ltd., Yancheng Trina Solar Energy Technology Co., Ltd., Changzhou Trina Solar Yabang Energy Co., Ltd., Turpan Trina Solar Energy Co., Ltd., Hubei Trina Solar Energy Co., Ltd., Trina Solar (Hefei) Science and Technology Co., Ltd.
Chint Solar (Zhejiang) Co., Ltd., Chint Energy (Haining) Co., Ltd., Chint Solar (Jiuquan) Co., Ltd., Chint Solar (Hong Kong) Company Limited
De-Tech Trading Limited HK
Dongguan Sunworth Solar Energy Co., Ltd.
Eoplly New Energy Technology Co., Ltd.
ERA Solar Co., Ltd.
ET Solar Energy Limited
Hangzhou Sunny Energy Science and Technology Co., Ltd.
Hengdian Group DMEGC Magnetics Co. Ltd.
JA Solar Technology Yangzhou Co., Ltd.
Jiangsu High Hope Int'l Group
Jiawei Solarchina (Shenzhen) Co., Ltd.
Jiawei Solarchina Co., Ltd.
JingAo Solar Co., Ltd.
Jinko Solar Co., Ltd.
Jinko Solar Import and Export Co., Ltd.
JinkoSolar International Limited
LERRI Solar Technology Co., Ltd. (aka LONGi Solar Technology Co. Ltd.)
Lightway Green New Energy Co., Ltd.
LONGi Solar Technology Co. Ltd.
Ningbo ETDZ Holdings, Ltd.
Ningbo Qixin Solar Electrical Appliance Co., Ltd.
Risen Energy Co. Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd. Ruichang Branch, RISEN ENERGY (HONGKONG) CO., LTD.
Shanghai BYD Co., Ltd
Shanghai JA Solar Technology Co., Ltd.
Shenzhen Sungold Solar Co., Ltd.
Shenzhen Topray Solar Co., Ltd.
Sumec Hardware & Tools Co., Ltd.
Sunpreme Solar Technology (Jiaxing) Co., Ltd.
Systemes Versilis, Inc.
Taizhou BD Trade Co., Ltd.
tenKsolar (Shanghai) Co., Ltd.
Tianneng Yingli New Energy Resources Co., Ltd.
Toenergy Technology Hangzhou Co., Ltd.
Wuxi Suntech Power Co., Ltd/Luoyang Suntech Power Co., Ltd.
Wuxi Tianran Photovoltaic Co., Ltd.
Yingli Energy (China) Company Limited, Baoding Tianwei Yingli New Energy Resources Co., Ltd., Tianjin Yingli New Energy Resources Co., Ltd., Hengshui Yingli New Energy Resources Co., Ltd., Lixian Yingli New Energy Resources Co., Ltd., Baoding Jiasheng Photovoltaic Technology Co., Ltd., Beijing Tianneng Yingli New Energy Resources Co., Ltd., Hainan Yingli New Energy Resources Co., Ltd., Shenzhen Yingli New Energy Resources Co., Ltd.
Yingli Green Energy International Trading Company Limited
Zhejiang Aiko Solar Energy Technology Co., Ltd.
Zhejiang ERA Solar Technology Co., Ltd.
Zhejiang Jinko Solar Co., Ltd.
Zhejiang Sunflower Light Energy Science & Technology Limited Liability Company
The People's Republic of China: Forged Steel Fittings,⁶ A-570-067 | 5/17/18-10/31/19
The People's Republic of China: Honey, A-570-863 | 12/1/18-11/30/19
Ban Me Thuot Honey Bee JSC
Hanoi Bee JSC
Honey Bee Co., Ltd.
Indocan Honey Pvt. Ltd.
Inner Mongolia Komway Import & Export Co., Ltd.
Jiangsu Runchen Agricultural/Sideline Foodstuff Co., Ltd.
Nhieu Loc Co., Ltd.
Phong Son Co., Ltd.
Sunflower Bee Honey Co.
Xuzhou Troy Imp. & Exp. Co., Ltd.
The People's Republic of China: Multilayered Wood Flooring, A-570-970 | 12/1/18-11/30/19
A&W (Shanghai) Woods Co., Ltd.
Anhui Boya Bamboo & Wood Products Co., Ltd.
Anhui Longhua Bamboo Product Co., Ltd.
Anhui Yaolong Bamboo & Wood Products Co. Ltd.
Armstrong Wood Products (Kunshan) Co., Ltd.⁷
Armstrong World Industries Inc.
Baroque Timber Industries (Zhongshan) Co., Ltd.⁸
Benxi Flooring Factory (General Partnership)
Benxi Wood Company
Changzhou Hawd Flooring Co., Ltd.
Chinafloors Timber (China) Co., Ltd.
Dalian Dajen Wood Co., Ltd.
Dalian Deerfu Wooden Product Co., Ltd.
Dalian Guhua Wooden Product Co., Ltd.
Dalian Huade Wood Product Co., Ltd.
Dalian Huilong Wooden Products Co., Ltd.
Dalian Jaenmaken Wood Industry Co., Ltd.
Dalian Jiahong Wood Industry Co., Ltd.
Dalian Kemian Wood Industry Co., Ltd.
Dalian Penghong Floor Products Co., Ltd.
Dalian Qianqiu Wooden Product Co., Ltd., Fusong Jinlong Wooden Group Co., Ltd., Fusong Jinqiu Wooden Product Co., Ltd., and Fusong Qianqiu Wooden Product Co., Ltd. (collectively, Fusong Jinlong Group)
Dalian Shengyu Science And Technology Development Co., Ltd.
Dalian Shumaike Floor Manufacturing Co., Ltd.
Dalian T-Boom Wood Products Co., Ltd.
Dongtai Fuan Universal Dynamics, LLC
Dun Hua Sen Tai Wood Co., Ltd.
Dunhua City Dexin Wood Industry Co., Ltd.
Dunhua City Hongyuan Wood Industry Co., Ltd.
Dunhua City Jisen Wood Industry Co., Ltd.⁹
Dunhua City Wanrong Wood Industry Co., Ltd.
Dunhua Shengda Wood Industry Co., Ltd
Fine Furniture (Fine Furniture (Shanghai) Limited and Double F Limited) ¹⁰
Guangzhou Homebon Timber Manufacturing Co., Ltd.
Guangzhou Panyu Kangda Board Co., Ltd.
Guangzhou Panyu Southern Star Co., Ltd.
Hailin Linjing Wooden Products Co., Ltd.
Hangzhou Hanje Tec Company Limited
Hangzhou Zhengtian Industrial Co., Ltd.
Hunchun Forest Wolf Wooden Industry Co., Ltd.
Hunchun Xingjia Wooden Flooring Inc.
Huzhou Chenghang Wood Co., Ltd
Huzhou Fulinmen Imp. & Exp. Co., Ltd.
Huzhou Jesonwood Co., Ltd.
Huzhou Sunergy World Trade Co., Ltd.
Innomaster Home (Zhongshan) Co., Ltd.
Jiafeng Wood (Suzhou) Co., Ltd.
Jiangsu Guyu International Trading Co., Ltd
Jiangsu Keri Wood Co., Ltd.
Jiangsu Mingle Flooring Co., Ltd
Jiangsu Senmao Bamboo and Wood Industry Co., Ltd.
Jiangsu Simba Flooring Co., Ltd.
Jiangsu Yuhui International Trade Co., Ltd.
Jiashan HuiJiaLe Decoration Material Co., Ltd.
Jiashan On-Line Lumber Co., Ltd.
Jiaxing Hengtong Wood Co., Ltd.
Jilin Forest Industry Jinqiao Flooring Group Co., Ltd.
Jilin Xinyuan Wooden Industry Co., Ltd.
Karly Wood Product Limited.
Kember Flooring, Inc. (a.k.a. Kember Hardwood Flooring, Inc.)
Kemian Wood Industry (Kunshan) Co., Ltd.
Kingman Floors Co., Ltd.
Lauzon Distinctive Hardwood Flooring, Inc.
Linyi Anying Wood Co., Ltd.
Linyi Bonn Flooring Manufacturing Co., Ltd.
Linyi Youyou Wood Co., Ltd.
Metropolitan Hardwood Floors, Inc.
Mudanjiang Bosen Wood Industry Co., Ltd.
Nakahiro Jyou Sei Furniture (Dalian) Co., Ltd.
Omni Arbor Solutions Co., Ltd.
Pinge Timber Manufacturing (Zhejiang) Co., Ltd.
Power Dekor Group Co., Ltd.
Power Dekor North America Inc.
Scholar Home (Shanghai) New Material Co., Ltd.
Shandong Longteng Wood Co., Ltd.
Shanghai Lairunde Wood Co., Ltd.
Shanghaifloor Timber (Shanghai) Co., Ltd.
Shenyang Haobainian Wooden Co., Ltd.
Shenzhenshi Huanwei Woods Co., Ltd.
Sino-Maple (Jiangsu) Co., Ltd.
Suzhou Dongda Wood Co., Ltd.
Tongxiang Jisheng Import and Export Co., Ltd.
Xiamen Yung De Ornament Co., Ltd.
Xuzhou Antop International Trade Co., Ltd.
Xuzhou Shenghe Wood Co., Ltd.
Yekalon Industry Inc.
Yihua Lifestyle Technology Co., Ltd. (successor-in-interest to Guangdong Yihua Timber Industry Co., Ltd.)
Yingyi-Nature (Kunshan) Wood Industry Co., Ltd.
Zhejiang Biyork Wood Co., Ltd.
Zhejiang Dadongwu Greenhome Wood Co., Ltd.¹¹
Zhejiang Fudeli Timber Industry Co., Ltd
Zhejiang Fuerjia Wooden Co., Ltd
Zhejiang Jiechen Wood Industry Co., Ltd.
Zhejiang Longsen Lumbering Co., Ltd.
Zhejiang Shiyou Timber Co., Ltd.
Zhejiang Shuimojiangnan New Material Technology Co., Ltd.
Zhejiang Simite Wooden Co., Ltd.
Turkey: Welded Line Pipe, A-489-822 | 12/1/18-11/30/19
Borusan Istikbal Ticaret
Borusan Mannesmann Boru Sanayi ve Ticaret A.
Cayirova Boru Sanayii ve Ticaret A.S.
Cimtas Boru Imalatlari ve Ticaret, Ltd. Sti.
Emek Boru Makina Sanayi ve Ticaret A.S.
Erbosan Erciyas Tube Industry and Trade Co. Inc.
Erciyas Celik Boru Sanayii A.S.
Guven Celik Boru Sanayii ve Ticaret Ltd. Sti.
Has Altinyagmur celik Boru Sanayii ve Ticaret Ltd. Sti.
HDM Steel Pipe Industry & Trade Co. Ltd.
Metalteks Celik Urunleri Sanayii
MMZ Onur Boru Profil Uretim Sanayii ve Ticaret A.S.
Noksel Steel Pipe Co. Inc.
Ozbal Celik Boru
Toscelik Profile and Sheet Industry, Co.
Tosyali Dis Ticaret A.S.
Umran Celik Boru Sanayii
YMS Pipe & Metal Sanayii A.S.
Yucelboru Ihracat Ithalat Pazzarlam
United Arab Emirates: Circular Welded Carbon-Quality Steel Plate, A-520-907 | 12/1/18-11/30/19
Ajmal Steel Tubes and Pipes Industries, LLC
Conares Metal Supply Limited
K.D. Industries Inc.
Tiger Steel Industries LLC
Universal Tube and Plastic Industries, Ltd
CVD Proceedings
India: Carbazole Violet Pigment 23, C-533-839 | 1/1/18-12/31/18
Pidilite Industries Limited
The People's Republic of China: Crystalline Silicon Photovoltaic Cells, Whether or Not Assembled Into Modules, C-570-980 | 1/1/18-12/31/18
Anji DaSol Solar Energy Science & Technology Co., Ltd.
Baoding Jiasheng Photovoltaic Technology Co., Ltd.
Baoding Tianwei Yingli New Energy Resources Co., Ltd.
BYD (Shangluo) Industrial Co., Ltd.
Canadian Solar International Limited
Canadian Solar Manufacturing (Changshu) Inc.
Canadian Solar Manufacturing (Luoyang) Inc.
Changzhou Trina Solar Energy Co., Ltd.
Changzhou Trina Solar Yabang Energy Co., Ltd.
Chint Solar (Zhejiang) Co., Ltd.
De-Tech Trading Limited HK
Dongguan Sunworth Solar Energy Co., Ltd.
Eoplly New Energy Technology Co., Ltd.
ERA Solar Co., Ltd.
ET Solar Energy Limited
Hainan Yingli New Energy Resources Co., Ltd.
Hangzhou Sunny Energy Science and Technology Co., Ltd.
Hengdian Group DMEGC Magnetics Co., Ltd.
Hengshui Yingli New Energy Resources Co., Ltd.
Hubei Trina Solar Energy Co., Ltd.
JA Solar Technology Yangzhou Co., Ltd.
Jiangsu High Hope Int'l Group
Jiawei Solarchina (Shenzhen) Co., Ltd.
Jiawei Solarchina Co., Ltd.
JingAo Solar Co., Ltd.
Jinko Solar Co., Ltd.
Jinko Solar Import and Export Co., Ltd.
Jinko Solar International Limited
LERRI Solar Technology Co., Ltd.
Light Way Green New Energy Co., Ltd.
Lixian Yingli New Energy Resources Co., Ltd.
Luoyang Suntech Power Co., Ltd.
Ningbo ETDZ Holdings, Ltd.
Ningbo Qixin Solar Electrical Appliance Co., Ltd.
Risen Energy Co., Ltd.
Shanghai BYD Co., Ltd.
Shanghai JA Solar Technology Co., Ltd.
Shenzhen Sungold Solar Co., Ltd.
Shenzhen Topray Solar Co., Ltd.
Shenzhen Yingli New Energy Resources Co., Ltd.
Sumec Hardware & Tools Co., Ltd.
Sunpreme Solar Technology (Jiaxing) Co., Ltd.
Systemes Versilis, Inc.
Taizhou BD Trade Co., Ltd.
tenKsolar (Shanghai) Co., Ltd.
Tianjin Yingli New Energy Resources Co., Ltd.
Tianneng Yingli New Energy Resources Co., Ltd.
Toenergy Technology Hangzhou Co., Ltd.
Trina Solar (Changzhou) Science and Technology Co., Ltd.
Turpan Trina Solar Energy Co., Ltd.
Wuxi Suntech Power Co., Ltd. Luoyang Suntech Power Co., Ltd.
Wuxi Tianran Photovoltaic Co., Ltd.
Yancheng Trina Solar Energy Technology Co., Ltd.
Yingli Energy (China) Co., Ltd.
Yingli Green Energy International Trading Company Limited
Zhejiang ERA Solar Technology Co., Ltd.
Zhejiang Jinko Solar Co., Ltd.
Zhejiang Sunflower Light Energy Science & Technology Limited Liability Company
The People's Republic of China: Lightweight Thermal Paper,¹² C-570-921 | 1/1/18-12/31/18
Avery Dennison (China) Co., Ltd.
Dong Nam Pack
Gold Huasheng Paper (Suzhou IP) Co.
Gold Shengpu Paper Products (Suzhou)
Henan Jianghe Paper Co. Ltd.
Jinan Fuzhi Paper Co., Ltd.
Pax Technology Limited
Prosper (HK) Co., Ltd.
Sailing International Limited
Shenzhen Formers Printing Co., Ltd.,
Shenzhen HDB Network Technology
Shenzhen Speedy Import & Export Co., Ltd.
Suzhou Xiandai Paper Production Co.
SYCDA Company Limited
Wuxi Honglinxin International Trade
Xiamen ATP Technology Co. Ltd.
The People's Republic of China: Multilayered Wood Flooring, C-570-971 | 1/1/18-12/31/18
A&W (Shanghai) Woods Co., Ltd.
American Pacific Plywood, Inc.
Anhui Boya Bamboo & Wood Products Co., Ltd.
Anhui Longhua Bamboo Product Co., Ltd.
Anhui Suzhou Dongda Wood Co., Ltd.
Anhui Yaolong Bamboo & Wood Products Co., Ltd.
Armstrong Wood Products (Kunshan) Co., Ltd.
Baishan Huafeng Wooden Product Co., Ltd.
Baroque Timber Industries (Zhongshan) Co., Ltd.
Baiying Furniture Manufacturer Co., Ltd.
Benxi Flooring Factory (General Partnership)
Benxi Wood Company
Changbai Mountain Development And Protection Zone Hongtu Wood Industrial Co., Ltd.
Changzhou Hawd Flooring Co., Ltd.
Chinafloors Timber (China) Co., Ltd.
Cheng Hang Wood Co., Ltd.
Dalian Dajen Wood Co., Ltd.
Dalian Deerfu Wooden Product Co., Ltd.
Dalian Guhua Wooden Product Co., Ltd.
Dalian Huade Wood Product Co., Ltd.
Dalian Huilong Wooden Products Co., Ltd.
Dalian Jaenmaken Wood Industry Co., Ltd.
Dalian Jiahong Wood Industry Co., Ltd.
Dalian Jinda Wood Products Corporation
Dalian Jiuyuan Wood Industry Co., Ltd.
Dalian Kemian Wood Industry Co., Ltd.
Dalian Meisen Woodworking
Dalian Penghong Floor Products Co., Ltd.
Dalian Shengyu Science and Technology Development Co.
Dalian Shumaike Floor Manufacturing Co., Ltd.
Dalian Qianqiu Wooden Product Co., Ltd.
Dalian T -Boom Wood Products Co., Ltd.
Dalian Xinjinghua Wood Co., Ltd.
Dongtai Fuan Universal Dynamics, LLC
Dongtai Zhangshi Wood Industry Co. Ltd.
Dun Hua Sen Tai Wood Co., Ltd.
Dunhua City Dexin Wood Industry Co., Ltd.
Dunhua City Hongyuan Wood Industry Co., Ltd.
Dunhua City Jisen Wood Industry Co., Ltd.
Dunhua City Wanrong Wood Industry Co., Ltd.
Dunhua Shengda Wood Industry Co., Ltd.
Fine Furniture (Shanghai) Limited
Fu Lik Timber (HK) Co., Ltd.
Fujian Wuyishan Werner Green Industry Co., Ltd.
Furnco International Shanghai Company
Fusong Jinqiu Wooden Product Co., Ltd.
Fusong Jinlong Wooden Group Co., Ltd.
Fusong Qianqiu Wooden Product Co., Ltd.
Gaotang Weilong Industry and Trade
Gold Seagull Shanghai Flooring
GTP International Ltd.
Guangdong Fu Lin Timber Technology Limited
Guangdong Yihua Timber Industry Co., Ltd.
Guangzhou Homebon Timber Manufacturing Co., Ltd.
Guangzhou Panyu Kangda Board Co., Ltd.
Guangzhou Panyu Southern Star Co., Ltd.
HaiLin LinJing Wooden Products, Ltd.
HaiLin XinCheng Wooden Products, Ltd.
Hangzhou Dazhuang Floor Co., Ltd. (DBA Dasso Industrial Group Co., Ltd.)
Hangzhou Hanje Tec Company Limited
Hangzhou Huahi Wood Industry Co., Ltd.
Hangzhou Zhengtian Industrial Co., Ltd.
Henan Xingwangjia Technology Co., Ltd.
Hong Kong Easoon Wood Technology Co., Ltd.
Huaxin Jiasheng Wood Co., Ltd.
Huber Engineering Wood Corp.
Hunchun Forest Wolf Wooden Industry Co., Ltd.
Hunchun Xingjia Wooden Flooring Inc.
Huzhou Chenghang Wood Co., Ltd.
Huzhou City Nanxun Guangda Wood Co., Ltd.
Huzhou Daruo Import And Export
Huzhou Fulinmen Imp. & Exp. Co., Ltd.
Huzhou Fuma Wood Co., Ltd.
Huzhou Jesonwood Co., Ltd.
Huzhou Laike Import and Export Co.
Huzhou Muyun Wood Co., Ltd.
Huzhou Sunergy World Trade Co., Ltd.
Innomaster Home (Zhongshan) Co., Ltd.
Jesonwood Forest Products ZJ
Jiafeng Wood (Suzhou) Co., Ltd.
Jiangsu Guyu International Trading Co., Ltd.
Jiangsu Kentier Wood Co., Ltd.
Jiangsu Keri Wood Co., Ltd.
Jiangsu Mingle Flooring Co., Ltd.
Jiangsu Senmao Bamboo and Wood Industry Co., Ltd.
Jiangsu Simba Flooring Co., Ltd.
Jiangsu Yuhui International Trade Co., Ltd.
Jiashan Fengyun Timber Co., Ltd.
Jiashan HuiJiaLe Decoration Material Co., Ltd.
Jiashan On-Line Lumber Co., Ltd.
Jiaxing Brilliant Import & Export Co., Ltd.
Jiaxing Hengtong Wood Co., Ltd.
Jilin Forest Industry Jinqiao Flooring Group Co., Ltd.
Jilin Xinyuan Wooden Industry Co., Ltd.
Karly Wood Product Limited
Kemian Wood Industry (Kunshan) Co., Ltd
Kingman Floors Co., Ltd.
Kunming Alston (AST) Wood Products Co., Ltd.
Liaoning Daheng Timber Group
Linyi Bonn Flooring Manufacturing Co., Ltd.
Linyi Anying Wood Co., Ltd.
Linyi Youyou Wood Co., Ltd. (successor-in-interest to Shanghai Lizhong Wood Products Co., Ltd.) (a/k/a The Lizhong Wood Industry Limited Company of Shanghai)
Max Choice Wood Industry
Mudanjiang Bosen Wood Industry Co., Ltd.
Nakahiro Jyou Sei Furniture (Dalian) Co., Ltd.
Nanjing Minglin Wooden Industry Co., Ltd.
Ningbo Tianyi Bamboo and Wood Products Co., Ltd.
Pinge Timber Manufacturing (Zhejiang) Co., Ltd.
Power Dekor Group Co. Ltd.
Power Dekor North America Inc.
PT. Tanjung Kreasi Parquet Industry
Qingdao Barry Flooring Co., Ltd.
Qingdao Wisdom International
Riverside Plywood Corporation
Samling Riverside Co., Ltd.
Scholar Home (Shanghai) New Material Co. Ltd.
Shandong Kaiyuan Wood Industry Co., Ltd.
Shandong Longteng Wood Co., Ltd.
Shandong Puli Trading Co., Ltd.
Shanghai Anxin (Weiguang) Timber Co., Ltd.
Shanghai Demeija Timber Co., Ltd.
Shanghai Eswell Timber Co., Ltd.
Shanghai Lairunde Wood Co., Ltd.
Shanghai Lizhong Wood Products Co., Ltd. (a/k/a The Lizhong Wood Industry Limited Company of Shanghai)
Shanghai New Sihe Wood Co., Ltd.
Shanghai Shenlin Corporation
Shanghaifloor Timber (Shanghai) Co., Ltd.
Shenyang Haobainian Wooden Co., Ltd.
Shenyang Sende Wood Co., Ltd.
Shenzhenshi Huanwei Woods Co., Ltd.
Sino-Maple (Jiangsu) Co., Ltd.
Suifenhe Chengfeng Trading Co., Ltd.
Sunyoung Wooden Products
Suzhou Anxin Weiguang Timber Co., Ltd.
Suzhou Dongda Wood Co., Ltd.
Suzhou Times Flooring Co., Ltd.
Tak Wah Building Material (Suzhou) Co.
The Greenville Flooring Co., Ltd.
Tongxiang Jisheng Import and Export Co., Ltd.
Topocean Consolidation Service
Vicwood Industry (Suzhou) Co. Ltd.
Xiamen Yung De Ornament Co., Ltd.
Xuzhou Antop International Trade Co., Ltd.
Xuzhou Shenghe Wood Co., Ltd.
Yekalon Industry, Inc.
Yihua Lifestyle Technology Co., Ltd.
Yingyi-Nature (Kunshan) Wood Industry Co., Ltd.
Yixing Lion-King Timber Industry
Zhejiang Anji Xinfeng Bamboo And Wood Industry Co., Ltd.
Zhejiang Biyork Wood Co., Ltd.
Zhejiang Dadongwu Auto Elect Moto
Zhejiang Dadongwu Greenhome Wood Co., Ltd.
Zhejiang Desheng Wood Industry Co., Ltd.
Zhejiang Fudeli Timber Industry Co., Ltd.
Zhejiang Fuerjia Wooden Co., Ltd.
Zhejiang Fuma Warm Technology Co., Ltd.
Zhejiang Haoyun Wooden Co., Ltd.
Zhejiang Jesonwood Co., Ltd.
Zhejiang Jiaye Flooring
Zhejiang Jiechen Wood Industry Co., Ltd.
Zhejiang Longsen Lumbering Co., Ltd.
Zhejiang Shiyou Timber Co., Ltd.
Zhejiang Shuimojiangnan New Material Technology Co., Ltd.
Zhejiang Simite Wooden Co., Ltd.
Zhejiang Tianzhen Bamboo & Wood Development Co., Ltd.
Zhejiang Yongyu Bamboo Joint-Stock Co., Ltd.
Suspension Agreements
None.

Duty Absorption Reviews

⁵ In the initiation notice that published on January 17, 2020 (85 FR 3014), covering cases with the November anniversary dates, Commerce inadvertently omitted the case and companies listed above. Accordingly, Commerce is initiating this administrative review with respect to these companies.

⁶ In the initiation notice that published on January 17, 2020 (85 FR 3014) the POR for the above referenced case was incorrect. The period listed above is the correct POR for this case.

⁷ Commerce is only reviewing entries where Armstrong Wood Products (Kunshan) Co., Ltd. was the exporter but not the producer of subject merchandise.

⁸ Commerce is only reviewing entries where Baroque Timber Industries (Zhongshan) Co., Ltd. was the exporter but not the producer of subject merchandise.

⁹ Commerce is only reviewing entries where Dunhua City Jisen Wood Industry Co., Ltd. was the exporter but not the producer of subject merchandise.

¹⁰ Commerce is only reviewing entries where Fine Furniture (Shanghai) Limited and/or Double F Limited was the exporter but Fine Furniture (Shanghai) Limited was not the producer of subject merchandise.

¹¹ Other variations of this company's name are Zhejiang Dadongwu GreenHome Wood Co., Ltd. and Zhejiang Dadongwu Green Home Wood Co., Ltd.

¹² In the initiation notice that published on January 17, 2020 (85 FR 3014), covering cases with the November anniversary dates, Commerce inadvertently omitted the case and companies listed above. Accordingly, Commerce is initiating this administrative review with respect to these companies.

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹³ available at https://enforcement.trade.gov/frn/2013/1304frn/2013-08227.txt, prior to submitting factual information in this segment.

¹³ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

These initiations and this notice are in accordance with section 751(a) of the Act (19 U.S.C. 1675(a)) and 19 CFR 351.221(c)(1)(i).

Dated: February 3, 2020.
James Maeder,
Deputy Assistant Secretary for Antidumping and Countervailing Duty Operations.

[FR Doc. 2020-02362 Filed 2-5-20; 8:45 am]

BILLING CODE 3510-DS-P